DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing to achieve expeditious commercialization of results of federally-funded research and development.

FOR FURTHER INFORMATION CONTACT: Licensing information may be obtained by communicating with Betty B. Tong, Ph.D., National Institute of Diabetes and Digestive and Kidney Diseases, Technology Advancement Office, 12A South Drive Suite 3011, Bethesda, MD 20892; telephone: 301-451-7836; email: tongb@mail.nih.gov. A signed Confidential Disclosure Agreement may be required to receive any unpublished information.

SUPPLEMENTARY INFORMATION: Technology description follows.

P2Y14 Receptor Antagonists Containing A Biaryl Core

The technology discloses composition of compounds that fully antagonize the human P2Y14 receptor, with moderate affinity with insignificant antagonism of other P2Y receptors. Therefore, they are highly selective P2Y14 receptor antagonists. Even though there is no P2Y14 receptor modulators in clinical use currently, selective P2Y14 receptor antagonists are sought as potential therapeutic treatments for asthma, cystic fibrosis, inflammation and possibly diabetes and neurodegeneration.

This technology is available for licensing for commercial development in accordance with 35 U.S.C. 209 and 37 CFR part 404.

Potential Commercial Applications

Development of P2Y14 receptor antagonist for treatment of disorders, such as:

• Inflammation

• diabetes

• cystic fibrosis

• asthma

• neurodegeneration

Development Stage:

• Early stage

Inventors: Kenneth A. Jacobson (NIDDK), Jinha Yu (NIDDK), Antonella Ciancetta (NIDDK), Zhiwei Wen (NIDDK), Young-Hwan Jung (NIDDK)

Publications: Yu J, Ciancetta A, Dudas S, et al., Structure-guided modification of heterocyclic antagonists of the P2Y14 receptor. J. Med. Chem., 2018, 61: 4860-4882, Jung YH, Yu J, Wen Z, et al., Exploration of alternative scaffolds for P2Y14 receptor antagonists containing a biaryl core. J. Med. Chem., 2020, 63:9563-9589.

Intellectual Property: HHS Reference No. E-028-2018-0/1, US Provisional Patent Application 62/628,699 filed 09 Feb 2018, International Patent Application PCT/US2019/17422, filed 11 Feb 2019.

Licensing Contact: Betty B. Tong, Ph.D.; 301-451-7836; tongb@mail.nih.gov. This notice is made in accordance with 35 U.S.C. 209 and 37 CFR part 404.

Dated: November 19, 2020.
Bei Tong,
Senior Licensing and Patenting Manager, National Institute of Diabetes and Digestive and Kidney Diseases, Technology Advancement Office.

[FR Doc. 2020-26168 Filed 11-25-20; 8:45 am]

BILLING CODE 4140-01-P